DEPARTMENT OF COMMERCE

National Oceanic and Atmospheric Administration

DEPARTMENT OF THE INTERIOR

U.S. Fish and Wildlife Service

RIN 0648-XI44

Marine Mammals and Endangered Species; National Marine Fisheries Service File No. 10074; U.S. Fish and Wildlife Service File No. PRT-165304

AGENCIES: National Marine Fisheries Service (NMFS), National Oceanic and Atmospheric Administration (NOAA), Commerce; U.S. Fish and Wildlife Service, Interior.

ACTION: Issuance of permit.

SUMMARY: Notice is hereby given that Michael Etnier, Ph.D., Box 353100, University of Washington, Seattle, WA 98227 has been issued a permit to import marine mammal specimens for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426; and

U.S. Fish and Wildlife Service, Division of Management Authority, 4401 North Fairfax Drive, Room 212, Arlington, VA 22203 (1-800-358-2104).

FOR FURTHER INFORMATION CONTACT: Kate Swails or Amy Sloan, (301)713-2289.

SUPPLEMENTARY INFORMATION: On January 25, 2008, notice was published in the Federal Register (73 FR 4540) that a request for a scientific research permit to take marine mammals had been submitted by the above-named individual. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The permit authorizes Dr. Etnier to possess and import/export marine mammal and endangered and threatened species parts (hard and soft) from the orders of Cetacea, Pinnipedia, and Carnivora (sea otter, Enhydra lutris). Specimens (teeth, bone, and whiskers) will be obtained from museums and private collections or collected from carcasses of beach stranded animals or federally sponsored subsistence harvests. No animals will be taken or killed for the purposes of this research. The objectives are to combine osteometric, chemical, and genetic analyses to test hypotheses regarding the stability of ecological adaptations among marine mammals in the eastern north Pacific Ocean throughout the Late Holocene.

In compliance with the National Environmental Policy Act of 1969 (42 U.S.C. 4321 et seq.), a final determination has been made that the activity proposed is categorically excluded from the requirement to prepare an environmental assessment or environmental impact statement.

Issuance of this permit, as required by the ESA, was based on a finding that such permit: (1) was applied for in good faith; (2) will not operate to the disadvantage of such endangered species; and (3) is consistent with the purposes and policies set forth in section 2 of the ESA.

Dated: June 18, 2008.
P. Michael Payne,
Chief, Permits, Conservation and Education Division, Office of Protected Resources, National Marine Fisheries Service.

Dated: June 18, 2008.
Timothy J. Van Norman,
Chief, Branch of Permits Division of Management Authority, U.S. Fish and Wildlife Service.

[FR Doc. E8-14260 Filed 6-23-08; 8:45 am]

BILLING CODES 3510-22-S, 4310-55-S